DEPARTMENT OF COMMERCE

Foreign-Trade Zones Board

[B-61-2022]

Foreign-Trade Zone (FTZ) 61; Authorization of Production Activity; Boehringer Ingelheim Animal Health Puerto Rico LLC; (Pharmaceutical Products/Canine); Barceloneta, Puerto Rico

On December 13, 2022, Boehringer Ingelheim Animal Health Puerto Rico LLC submitted a notification of proposed production activity to the FTZ Board for its facility within Subzone 61AC in Barceloneta, Puerto Rico.

The notification was processed in accordance with the regulations of the FTZ Board (15 CFR part 400), including notice in the Federal Register inviting public comment (87 FR 78045, December 21, 2022). On April 12, 2023, the applicant was notified of the FTZ Board's decision that no further review of the activity is warranted at this time. The production activity described in the notification was authorized, subject to the FTZ Act and the FTZ Board's regulations, including section 400.14.

Dated: April 12, 2023.
Camille R. Evans,
Acting Executive Secretary.

[FR Doc. 2023-08064 Filed 4-14-23; 8:45 am]

BILLING CODE 3510-DS-P